ELECTION ASSISTANCE COMMISSION

Sunshine Act Notice

AGENCY: United States Election Assistance Commission (EAC).

ACTION: Notice of Public Meeting Roundtable Discussion.

DATE AND TIME: Tuesday, December 11, 2007, 1-6 p.m. (CST).

PLACE: Omni Hotel Downtown, 700 San Jacinto Boulevard at 8th Street, Austin, TX 78701, Phone number (512) 476-3700.

AGENDA: The Commission will host an academic roundtable discussion regarding the Technical Guidelines Development Committee (TGDC) recommended voluntary voting system guidelines (VVSG). The discussion will be focused upon the following topics: (1) How to develop a risk assessment framework to provide context for evaluating the security implications of using various technologies in voting systems; (2) Whether the recommended TGDC standards create appropriate functional standards that promote innovation; (3) Are existing methodologies sufficient to test voting system software; (4) Merits of the various types of Direct (by the voter) and Indirect (by automation) Independent Verification techniques; (5) How to evaluate innovative systems, for which there are no standards for purposes of certification.

This meeting will be open to the public.

PERSON TO CONTACT FOR INFORMATION: Matthew Masterson, Telephone: (202) 566-3100.

Thomas R. Wilkey,
Executive Director, U.S. Election Assistance Commission.

[FR Doc. 07-5939 Filed 11-30-07; 1:41 pm]

BILLING CODE 6820-KF-M